DEPARTMENT OF ENERGY

Federal Energy Regulatory Commission

[Docket No. ER00-2571-001]

Duquesne Light Company; Notice of Filing

July 19, 2000.

Take notice that on July 14, 2000, pursuant to the Commission's Order dated June 15, 2000, Duquesne Light Company (Duquesne) tendered for filing under Duquesne's market-based rate tariff, an amended long-term service agreement between Duquesne and Orion Power Midwest, L.P., (Orion).

Duquesne reports that service commenced to Orion on April 28, 2000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 4, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-19195 Filed 7-28-00; 8:45 am]

BILLING CODE 6717-01-M